Postal Regulatory Commission

Sunshine Act Meetings

TIME AND DATE: Wednesday, April 7, 2010 at 11 a.m.

PLACE: Commission hearing room, 901 New York Avenue, NW., Suite 200, Washington, DC 20268-0001.

STATUS: Parts of this meeting will be open to the public. The rest of the meeting will be closed to the public. The public session will be podcast.

MATTERS TO BE CONSIDERED:

PORTIONS OPEN TO THE PUBLIC:

1. Review of Postal-related congressional activity (open).

2. Report on international activities (open).

3. Review of active cases (open).

4. Report on public communications regarding the Nature of Service Inquiry (open).

5. Report on status of a special study, pursuant to section 802(c) of the Postal Accountability and Enhancement Act (PAEA) of 2006, addressing the Postal Service's estimated share of a certain Civil Service Retirement System-related retirement benefit liability. (open).

6. Report on recent activities of Joint Periodicals Task Force and status of anticipated report to the Congress pursuant to section 708 of the PAEA (open).

7. Report on status of internal evaluation of the Public Representative function (open).

8. Report on status of technical conference papers authored by staff (open).

PORTIONS CLOSED TO THE PUBLIC:

9. Discussion of pending litigation (closed).

10. Discussion of confidential commercial information relative to Commission contracts (closed).

11. Discussion of confidential personnel issues involving performance management (closed).

CONTACT PERSON FOR FURTHER INFORMATION: Stephen L. Sharfman, General Counsel, Postal Regulatory Commission, at 202-789-6820 or stephen.sharfman@prc.gov (for questions concerning the agenda) and Shoshana M. Grove at 202-789-6842 or shoshana.grove@prc.gov (for questions concerning podcasting).

Dated: March 26, 2010.
Shoshana M. Grove,
Secretary.

[FR Doc. 2010-7155 Filed 3-26-2010; 8:45 am]

BILLING CODE 7710-FW-S